SMALL BUSINESS ADMINISTRATION

[Declaration of Disaster #3422]

State of Indiana; Disaster Loan Areas

As a result of the President's major disaster declaration on June 13, 2002, I find that Dubois, Gibson, Hamilton, Marion, Martin, Pike, Posey, and Vigo Counties in the State of Indiana constitute a disaster area due to damages caused by severe storms, tornadoes and flooding occurring April 28, 2002 through June 7, 2002. Applications for loans for physical damage as a result of this disaster may be filed until the close of business on August 12, 2002 and for economic injury until the close of business on March 13, 2003 at the address listed below or other locally announced locations:

U.S. Small Business Administration, Disaster Area 2 Office, One Baltimore Place, Suite 300, Atlanta, GA 30308.

In addition, applications for economic injury loans from small businesses located in the following contiguous counties may be filed until the specified date at the above location: Boone, Clay, Clinton, Crawford, Daviess, Greene, Hancock, Hendricks, Johnson, Knox, Lawrence, Madison, Morgan, Orange, Parke, Perry, Shelby, Spencer, Sullivan, Tipton, Vanderburgh, Vermillion, and Warrick in the State of Indiana; Clark, Edgar, Edwards, Gallatin, Wabash, and White Counties in the State of Illinois; and Henderson and Union Counties in the Commonwealth of Kentucky.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 342211. For economic injury the numbers are 9Q1400 for Indiana; 9Q1500 for Illinois; and 9Q1600 for Kentucky.

(Catalog of Federal Domestic Assistance Program Nos. 59002 and 59008)
Dated: June 17, 2002.
Herbert L. Mitchell,
Associate Administrator for Disaster Assistance.

[FR Doc. 02-15819 Filed 6-21-02; 8:45 am]

BILLING CODE 8025-01-P